DEPARTMENT OF VETERANS AFFAIRS

[OMB Control No. 2900-0001]

Proposed Information Collection (Veteran's Application for Compensation and/or Pension) Activity: Comment Request

AGENCY: Veterans Benefits Administration, Department of Veterans Affairs.

ACTION: Notice.

SUMMARY: The Veterans Benefits Administration (VBA), Department of Veterans Affairs (VA), is announcing an opportunity for public comment on the proposed collection of certain information by the Agency. Under the Paperwork Reduction Act (PRA) of 1995, Federal agencies are required to publish notice in the Federal Register concerning each proposed collection of information, including each revision of a currently approved collection and allow 60 days for public comment in response to the notice. This notice solicits comments on information needed to determine a veteran's eligibility, dependency, and income, as applicable, for compensation and/or pension benefits and to assist veterans in reopening a previously denied disability compensation claim or to request an increase in benefit and/or claim for a new service-connected condition.

DATES: Written comments and recommendations on the proposed collection of information should be received on or before November 30, 2009.

ADDRESSES: Submit written comments on the collection of information through http://www.Regulations.gov; or to Nancy J. Kessinger, Veterans Benefits Administration (20M35), Department of Veterans Affairs, 810 Vermont Avenue, NW., Washington, DC 20420 or e-mail: nancy.kessinger@va.gov. Please refer to “OMB Control No. 2900-0001” in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Veteran's Application for Compensation and/or Pension, VA Form 21-526.

b. Veteran's Supplemental Claim Application, VA Form 21-526b.

c. Authorization and Consent Release Information to the Department of Veterans Affairs (VA), VA Form 21-4142.

OMB Control Number: 2900-0001.

Type of Review: Revision of a currently approved collection.

Abstracts:

a. Veterans complete VA Form 21-526 to apply for compensation and/or pension benefits.

b. Veterans who previously filed a claim using VA Form 21-526, Application for Compensation or Pension, and who wish to request an increase in a service connected condition, reopen their claim for a previously denied claim, and/or file a claim for a new service-connected condition must complete VA Form 21-526b. VA Form 21-526b will be used for supplemental claims for disability compensation.

c. Veterans who need VA's assistance in obtaining non-VA medical records must complete VA Form 21-4142.

Affected Public: Individuals or households.

Estimated Annual Burden:

a. VA Form 21-526—391,708.

b. VA Form 21-526b—50,000.

c. VA Form 21-4142—274.

Estimated Average Burden Per Respondent:

a. VA Form 21-526—1 hour.

b. VA Form 21-526b—15 minutes

c. VA Form 21-4142—5 minutes.

Frequency of Response: On occasion.

Estimated Number of Respondents:

a. VA Form 21-526—391,708

b. VA Form 21-526b—200,000

c. VA Form 21-4142—3,292.

Dated: September 24, 2009.
By direction of the Secretary.
Denise McLamb,
Program Analyst, Enterprise Records Service.

[FR Doc. E9-23481 Filed 9-28-09; 8:45 am]

BILLING CODE P